DEPARTMENT OF HEALTH AND HUMAN SERVICES

Administration on Aging

Availability of Funding Opportunity Announcement

Funding Opportunity Title/Program Name: Performance Outcomes Measures Project.

Announcement Type: Initial.

Funding Opportunity Number: Program Announcement No. AoA-PO-0504.

Statutory Authority: The Older Americans Act, Pub. L. 106-501.

Catalog of Federal Domestic Assistance (CFDA) Number: 93.048, Title IV and Title II, Discretionary Projects.

Dates: The deadline date for the submission of applications is July 25, 2005.

I. Funding Opportunity Description

The purpose of this competition is to solicit applications for Standard Performance Outcomes Measures Projects (POMP). POMP projects that will continue to work with performance measurement surveys to fill in existing gaps in the current arsenal of POMP developed performance measurement tools and develop “final versions” of the instruments for use throughout the Aging Network as follows:

• Develop a methodology and tool for Statewide Performance Measurement.

• Develop “Final Versions” of performance measurement surveys.

• Develop a performance measurement dissemination plan.

• Participate in Web site enhancement activity.

A detailed description of the funding opportunity may be found at http://www.aoa.gov or http://www.gpra.net.

II. Award Information

1. Funding Instrument Type: Grants.

2. Anticipated Total Priority Area Funding per Budget Period: AoA intends to make available, under this program announcement, grant awards for 6 to 10 projects at a federal share of approximately $30,000 per year for a project period of one year. The maximum award will be $40,000.

III. Eligibility Criteria and Other Requirements

1. Eligible Applicants: Eligibility for grant awards is limited to State Agencies on Aging.

2. Cost Sharing or Matching: Grantees are required to provide at least 25% percent of the total program costs from non-federal cash or in-kind resources in order to be considered for the award.

3. DUNS Number: All grant applicants must obtain a D-U-N-S number from Dun and Bradstreet. It is a nine-digit identification number, which provides unique identifiers of single business entities. The D-U-N-S number is free and easy to obtain from http://www.dnb.com/US/duns_update/.

4. Intergovernmental Review: Executive Order 12372, Intergovernmental Review of Federal Programs, is not applicable to these grant applications.

IV. Application and Submission Information

1. Address to Request Application Package: Application kits are available by writing to the U.S. Department of Health and Human Services, Administration on Aging, Office of Evaluation, Washington, DC 20201, by calling 202/357-0145, or online at http://www.grants.gov.

2. Address for Application Submission: Applications may be mailed to the U.S. Department of Health and Human Services, Administration on Aging, Office of Grants Management, Washington, DC 20201, attn: Margaret Tolson.

Applications may be delivered (in person, via messenger) to the U.S. Department of Health and Human Services, Administration on Aging, Office of Grants Management, One Massachusetts Avenue, NW., Room 4604, Washington, DC 20001, attn: Margaret Tolson.

If you elect to mail or hand deliver your application you must submit one original and two copies of the application; an acknowledgement card will be mailed to applicants. Instructions for electronic mailing of grant applications are available at http://www.grants.gov/

3. Submission Dates and Times: To receive consideration, applications must be received by the deadline listed in the DATES section of this Notice.

V. Responsiveness Criteria

Each application submitted will be screened to determine whether it was received by the closing date and time.

Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

• Purpose and Need for Assistance—(20 points).

• Approach/Method “ Workplan and Activities—(35 points).

• Outcomes/Evaluation/Dissemination—(25 points).

• Level of Effort—(20 points).

VII. Agency Contacts

Direct inquiries regarding programmatic issues to U.S. Department of Health and Human Services, Administration on Aging, Office of Evaluation, Washington, DC 20201, telephone: (202) 357-0145.

Dated: May 20, 2005.
Josefina G. Carbonell,
Assistant Secretary for Aging.

[FR Doc. 05-10420 Filed 5-24-05; 8:45 am]

BILLING CODE 4154-01-P